DEPARTMENT OF THE INTERIOR

Geological Survey

[GX15 RN00EAA0100]

Agency Information Collection Activities: Request for Comments

AGENCY: U.S. Geological Survey (USGS), Interior.

ACTION: Notice of extension of a currently approved information collection, (1028-0100).

SUMMARY: We (the U.S. Geological Survey) will ask Office of Management and Budget (OMB) the information collection request (ICR) described below. The extension includes no changes to forms or instructions. To comply with the Paperwork Reduction Act of 1995 (PRA) and as part of our continuing efforts to reduce paperwork and respondent burden, we invite the general public and other Federal agencies to take this opportunity to comment on this ICR. This collection is scheduled to expire on December 31, 2014.

DATES: To ensure that your comments on this ICR are considered, we must receive them on or before January 8, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0100 Did you see it? Report a Landslide'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0100: Did you see it? Report a Landslide' in all correspondence.

FOR FURTHER INFORMATION CONTACT: Rex Baum, Geologic Hazards Science Center, U.S. Geological Survey, Box 25046, Mail Stop 966, Denver, CO 80225 (mail); 303-273-8610 (phone); or baum@usgs.gov (email). You may also find information about this ICR at www.reginfo.gov.

SUPPLEMENTARY INFORMATION:

I. Abstract

The objective of this collection is to build better inventories of landslides through citizen participation. This project will make it possible for the public to report their observations of landslides on a USGS-hosted Web site. The information gathered through the on-line database will be used to classify the landslides and damage, as well as provide information to scientists about the location, time, speed, and size of the landslides. The USGS Landslide Hazards Program has developed an interactive Web site for public reporting of landslides.

II. Data

OMB Control Number: 1028-0100.

Form Number: http://landslides.usgs.gov/dysi/form.php.

Title: Did you see it? Report a Landslide.

Type of Request: Extension of a currently approved information collection.

Respondent Obligation: None. Participation is voluntary.

Frequency of Collection: On occasion, after a landslide.

Description of Respondents: General Public.

Estimated Total Number of Annual Responses: 2000.

Estimated Time per Response: We estimate that it will take 5 minutes per person to report landslide location, time, damage and description using the online form.

Estimated Annual Burden Hours: 167 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On August 26, 2014, we published a Federal Register notice (79 FR 50939) announcing that we would submit this ICR to OMB for approval and soliciting comments. The comment period closed on October 27, 2014. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Peter Lyttle,
Coordinator, National Cooperative Geologic Mapping Program.

[FR Doc. 2014-28754 Filed 12-8-14; 8:45 am]

BILLING CODE 4311-AM-P